DEPARTMENT OF TRANSPORTATION

Federal Aviation Administration

14 CFR Part 39

[Docket No. FAA-2013-0472; Directorate Identifier 98-CE-097-AD; Amendment 39-17538; AD 99-07-10 R1]

RIN 2120-AA64

Airworthiness Directives; PIAGGIO AERO INDUSTRIES S.p.A Airplanes

AGENCY: Federal Aviation Administration (FAA), Department of Transportation (DOT).

ACTION: Final rule; rescission.

SUMMARY: We are rescinding an airworthiness directive (AD) for PIAGGIO AERO INDUSTRIES S.p.A. Model P-180 airplanes. The rescinded AD resulted from mandatory continuing airworthiness information (MCAI) originated by an aviation authority of another country to identify and correct an unsafe condition on an aviation product. The MCAI describes the unsafe condition as partial detachment of the inner protective film of the composite nacelles. Since issuance of the rescinded AD, we have determined that the unsafe condition does not exist or is not likely to develop on affected type design airplanes.

DATES: This AD is effective September 19, 2013.

ADDRESSES: You may examine the AD docket on the Internet at http://www.regulations.gov; or in person at the Docket Management Facility between 9 a.m. and 5 p.m., Monday through Friday, except Federal holidays. The AD docket contains this proposed AD, the regulatory evaluation, any comments received, and other information. The street address for the Docket Office (telephone (800) 647-5527) is in the ADDRESSES section.

FOR FURTHER INFORMATION CONTACT: Mike Kiesov, Aerospace Engineer, FAA, Small Airplane Directorate, 901 Locust, Room 301, Kansas City, Missouri 64106; telephone: (816) 329-4144; fax: (816) 329-4090; email: mike.kiesov@faa.gov.

SUPPLEMENTARY INFORMATION:

Discussion

We issued a notice of proposed rulemaking (NPRM) to amend 14 CFR part 39 by rescinding AD 99-07-10 (64 FR 14824, March 29, 1999) that applied to the specified products. The NPRM was published in the Federal Register on May 30, 2013 (78 FR 32363).

On March 18, 1999, we issued AD 99-07-10, Amendment 39-11095 (64 FR 14824, March 29, 1999), with an effective date of May 10, 1999. The AD required actions intended to address an unsafe condition on the products listed above.

Since we issued AD 99-07-10, Amendment 39-11095 (64 FR 14824, March 29, 1999), the European Aviation Safety Agency (EASA), which is the Technical Agent for the Member States of the European Community, has issued AD Cancellation Notice No.: 2013-0085-CN, dated April 8, 2013, which cancelled Ente Nazionale per l'Aviazione Civile (ENAC) (the airworthiness authority for Italy) AD No. 98-208, dated June 9, 1998. Italian AD No. 98-208 required the inspections and corrective actions of Piaggio Service Bulletin (Mandatory) No.: SB-80-0101, Original Issue: May 6, 1998. AD 99-07-10, Amendment 39-11095 (64 FR 14824, March 29, 1999), is the result of mandatory continuing airworthiness information (MCAI) issued by ENAC.

We have been notified that since 2000, all nacelles for PIAGGIO AERO INDUSTRIES S.p.A Model P-180 airplanes have been manufactured by a different supplier, and no new occurrences of film detachment have been reported on earlier manufactured airplanes. Therefore, nacelle inner panel protective film detachment is no longer considered probable. Consequently, PIAGGIO AERO INDUSTRIES S.p.A. issued Mandatory Service Bulletin No. SB 80-0101, Rev. N. ZZ, dated February 19, 2013, to cancel the previous revision of this service bulletin.

Refer to MCAI European Aviation Safety Agency (EASA) AD No.: AD Cancellation Notice No.: 2013-0085-CN, dated April 8, 2013, and Ente Nazionale per l'Aviazione Civile (ENAC) AD No. 98-208, dated June 9, 1998, for related information; both may be found in the AD docket on the Internet at http://www.regulations.gov. You may also refer to Piaggio Service Bulletin (Mandatory) No.: SB 80 0101, Original Issue: May 6, 1998, for related information. For service information related to this AD, contact Piaggio Aero Industries S.p.A Airworthiness Office; Via Luigi Cibrario, 4-16154 Genova-Italy; telephone: +39 010 6481353; fax: +39 010 6481881; email: airworthiness@piaggioaero.it; Internet: www.piaggioaero.com/#/en/after-sales/service-support. You may review copies of the referenced service information at the FAA, Small Airplane Directorate, 901 Locust, Kansas City, Missouri 64106. For information on the availability of this material at the FAA, call (816) 329-4148.

Comments

We gave the public the opportunity to participate in developing this AD. We received no comments on the NPRM (78 FR 32363, May 30, 2013).

Conclusion

We reviewed the relevant data and determined that rescinding the AD will not affect air safety and will reduce the burden on the public. We will rescind the AD as proposed except for minor editorial changes. We have determined that these minor changes:

• Are consistent with the intent that was proposed in the NPRM (78 FR 32363, May 30, 2013) for correcting the unsafe condition; and

• Do not add any additional burden upon the public than was already proposed in the NPRM (78 FR 32363, May 30, 2013).

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed above, I certify this regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing AD 99-07-10, Amendment 39-11095 (64 FR 14824, March 29, 1999), and adding the following new AD:

AD 99-07-10 R1 PIAGGIO AERO INDUSTRIES S.p.A: Amendment 39-17538; Docket No. FAA-2013-0472; Directorate Identifier 98-CE-097-AD.

(a) Effective Date

This airworthiness directive (AD) becomes effective September 19, 2013.

(b) Affected ADs

This AD rescinds AD 99-07-10, Amendment 39-11095 (64 FR 14824, March 29, 1999).

(c) Applicability

This AD applies to PIAGGIO AERO INDUSTRIES S.p.A Model P-180 airplanes, all serial numbers, certificated in any category.

(d) Subject

Joint Aircraft System Component (JASC)/Air Transport Association (ATA) of America Code 54; Nacelles/Pylons.

Issued in Kansas City, Missouri, on July 25, 2013.
Earl Lawrence,
Manager, Small Airplane Directorate, Aircraft Certification Service.

[FR Doc. 2013-19816 Filed 8-14-13; 8:45 am]

BILLING CODE 4910-13-P